NUCLEAR REGULATORY COMMISSION

[NRC-2011-0046]

Draft Regulatory Guide: Issuance, Availability

AGENCY: Nuclear Regulatory Commission.

ACTION: Notice of Issuance and Availability of Draft Regulatory Guide, DG-1254, “Qualification of Connection Assemblies for Nuclear Power Plants.”

FOR FURTHER INFORMATION CONTACT: Satish Aggarwal, U. S. Nuclear Regulatory Commission, Washington, DC 20555-0001, telephone: 301-251-7627 or e-mail: Satish.Aggarwal@nrc.gov.

SUPPLEMENTARY INFORMATION:

I. Introduction

The U.S. Nuclear Regulatory Commission (NRC or Commission) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled “Qualification of Connection Assemblies for Nuclear Power Plants,” is temporarily identified by its task number, DG-1254, which should be mentioned in all related correspondence. DG-1254 is proposed Revision 1 of Regulatory Guide 1.156, dated November 1987.

This guide describes a method that the NRC considers acceptable for complying with the Commission's regulations on the environmental qualification of connection assemblies and environmental seals in combination with cables or wires as assemblies for service in nuclear power plants. The environmental qualification helps ensure that connection assemblies can perform their safety functions during and after a design-basis event.

Title 10 of the Code of Federal Regulations, Part 50, “Domestic Licensing of Production and Utilization Facilities” (10 CFR Part 50), Appendix B, “Quality Assurance Criteria for Nuclear Power Plants and Fuel Reprocessing Plants,” Criterion III, “Design Control,” requires, in part, that test programs used to verify the adequacy of specific design features include suitable qualification testing of a prototype unit under the most adverse design conditions.

In 10 CFR 50.49, “Environmental Qualification of Electric Equipment Important to Safety for Nuclear Power Plants,” the NRC requires that certain electric equipment important to safety be qualified for its application and specified performance. The regulation also identifies requirements for establishing environmental qualification methods and qualification parameters.

II. Further Information

The NRC staff is soliciting comments on DG-1254. Comments may be accompanied by relevant information or supporting data and should mention DG-1254 in the subject line. Comments submitted in writing or in electronic form will be made available to the public in their entirety through the NRC's Agencywide Documents Access and Management System (ADAMS).

Comments would be most helpful if received by April 27, 2011. Comments received after that date will be considered if it is practical to do so, but the NRC is able to ensure consideration only for comments received on or before this date. Although a time limit is given, comments and suggestions in connection with items for inclusion in guides currently being developed or improvements in all published guides are encouraged at any time.

ADDRESSES: You may submit comments by any one of the following methods. Please include Docket ID NRC-2011-0046 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal rulemaking Web site: Go to http://www.regulations.gov and search for documents filed under Docket ID NRC-2011-0046. Address questions about NRC dockets to Carol Gallagher 301-492-3668; e-mail Carol.Gallagher@nrc.gov.

Mail comments to: Cindy K. Bladey, Chief, Rules, Announcements, and Directives Branch (RADB), Office of Administration, Mail Stop: TWB-05-B01M, U.S. Nuclear Regulatory Commission, Washington, DC 20555-0001, or by fax to RADB at 301-492-3446.

You can access publicly available documents related to this notice using the following methods:

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. DG-1254 is available electronically under ADAMS Accession Number ML102090535. In addition, electronic copies of DG-1254 are available through the NRC's public Web site under Draft Regulatory Guides in the “Regulatory Guides” collection of the NRC's Electronic Reading Room at http://www.nrc.gov/reading-rm/doc-collections/. The regulatory analysis may be found in ADAMS under Accession No. ML102090536.

Federal Rulemaking Web site: Public comments and supporting materials related to this notice can be found at http://www.regulations.gov by searching on Docket ID: NRC-2011-0046.

Regulatory guides are not copyrighted, and Commission approval is not required to reproduce them.

Dated at Rockville, Maryland this 18th day of February, 2011.
For the Nuclear Regulatory Commission.
Richard A. Jervey,
Acting Chief, Regulatory Guide Development Branch, Division of Engineering, Office of Nuclear Regulatory Research.

[FR Doc. 2011-4344 Filed 2-25-11; 8:45 am]

BILLING CODE 7590-01-P